SECURITIES AND EXCHANGE COMMISSION

[File No. 500-1]

In the Matter of Largo Vista Group, Ltd., Montavo, Inc., OBN Holdings, Inc., PrepaYd, Inc., Ready Welder Corp., and Snowdon Resources Corp.; Order of Suspension of Trading

January 25, 2013.

It appears to the Securities and Exchange Commission that there is a lack of current and accurate information concerning the securities of Largo Vista Group, Ltd. because it has not filed any periodic reports since the period ended September 30, 2008.

It appears to the Securities and Exchange Commission that there is a lack of current and accurate information concerning the securities of Montavo, Inc. because it has not filed any periodic reports since the period ended June 30, 2011.

It appears to the Securities and Exchange Commission that there is a lack of current and accurate information concerning the securities of OBN Holdings, Inc. because it has not filed any periodic reports since the period ended March 31, 2010.

It appears to the Securities and Exchange Commission that there is a lack of current and accurate information concerning the securities of PrepaYd, Inc. because it has not filed any periodic reports since the period ended December 31, 2010.

It appears to the Securities and Exchange Commission that there is a lack of current and accurate information concerning the securities of Ready Welder Corp. because it has not filed any periodic reports since the period ended September 30, 2010.

It appears to the Securities and Exchange Commission that there is a lack of current and accurate information concerning the securities of Snowdon Resources Corp. because it has not filed any periodic reports since the period ended January 31, 2011.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 25, 2013, through 11:59 p.m. EST on February 7, 2013.

By the Commission.
Jill M. Peterson,
Assistant Secretary.

[FR Doc. 2013-01964 Filed 1-25-13; 11:15 am]

BILLING CODE 8011-01-P